RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s)

(1) Collection title: Earnings Information Request.

(2) Form(s) submitted: G-19-F.

(3) OMB Number: 3220-0184.

(4) Expiration date of current OMB clearance: 10/30/2001.

(5) Type of request: Extension of a currently approved collection.

(6) Respondents: Individuals or Households.

(7) Estimated annual number of respondents: 1,500.

(8) Total annual responses: 1,500.

(9) Total annual reporting hours: 200.

(10) Collection description: Under Section 2 of the Railroad Retirement Act, an annuity is not payable or is reduced by any month(s) in which the beneficiary works for a railroad or earns more than the prescribed amounts. The collection obtains earnings information not previously or erroneously reported by a beneficiary.

Additional Information or Comments

Copies of the forms and supporting documents can be obtained from Chuck Mierzwa, the agency clearance officer (312-751-3363). Comments regarding the information collection should be addressed to Ronald J. Hodapp, Railroad Retirement Board, 844 North Rush Street, Chicago, Illinois, 60611-2092 and the OMB reviewer, Marcie Brown (202-395-7316), Office of Management and Budget, Room 10230, New Executive Office Building, Washington, DC 20503.

Chuck Mierzwa,
Clearance Officer.

[FR Doc. 01-21108 Filed 8-21-01; 8:45 am]

BILLING CODE 7905-01-M